DEPARTMENT OF TRANSPORTATION

Federal Aviation Administration

[Docket No. FAA-2020-0993]

Agency Information Collection Activities: Requests for Comments; Clearance of Renewed Approval of Information Collection: General Aviation and Part 135 Activity Survey

AGENCY: Federal Aviation Administration (FAA), DOT.

ACTION: Notice and request for comments.

SUMMARY: In accordance with the Paperwork Reduction Act of 1995, FAA invites public comments about our intention to request the Office of Management and Budget (OMB) approval renewal information collection. The Federal Register Notice with a 60-day comment period soliciting comments on the following collection of information was published on Feb 2, 2021. The collection involves FAA's primary requirement for annual hours flown, optimal determination of sample size is based on flight time variation by state and aircraft type, and a sampling fraction is determined for each cell with a no-zero population. Sample units are selected randomly within each stratum. Respondents to this survey are owners of general aviation aircraft. This information is used by FAA, NTSB, and other government agencies, the aviation industry, and others for safety assessment, planning, forecasting, cost/benefit analysis, and to target areas for research.

DATES: Written comments should be submitted by Sep 22, 2021.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: Parasha Vincent Flowers by email at: Parasha.flowers@faa.gov; phone: 202-267-8757.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-6160.

Title: General Aviation and Part 135 Activity Survey.

Form Numbers: 1800-54.

Type of Review: Renewal.

Background: The Federal Register Notice with a 60-day comment period soliciting comments on the following collection of information was published on Feb 2, 2021 (85 FR 71710). Title 49, United States Code, empowers the Secretary of Transportation to collect and disseminate information relative to civil aeronautics, to study the possibilities for development of air commerce and the aeronautical industries, and to make long-range plans for, and formulate policy with respect to, the orderly development and use of the navigable airspace, radar installations and all other aids for air navigation. These data are necessary to assess performance of the Department of Transportation in meeting the strategic goal for General Aviation safety as described in the Destination 2025 Strategic Plan.

The agency and the National Transportation Safety Board (NTSB) use the exposure data, both by itself and in conjunction with aircraft age, to calculate accident rates, which are used to compare safety over time and safety performance among different aircraft types and configurations.

The agency and the NTSB will use the exposure data for public use aircraft to calculate accident rates for those aircraft. The NTSB is now required to investigate accidents involving public use aircraft. This is a responsibility assigned by Public Law 103-411.

Respondents: Owners of General Aviation Aircraft.

Frequency: Annual.

Estimated Average Burden per Response: 20 minutes.

Estimated Total Annual Burden: (36,000 × 20/60) = 12,000 hours.

Issued in Washnigton, DC, on August, 23, 2021.
Parasha Vincent Flowers,
Program Manager, Program Management & Development Branch, AVP-220, Office of Accident Investigation & Prevention.

[FR Doc. 2021-18412 Filed 8-25-21; 8:45 am]

BILLING CODE 4910-13-P